DEPARTMENT OF THE INTERIOR

Bureau of Land Management

[LLMT924000 L12200000.PM0000]

Proposed Supplementary Rules for Camping on Undeveloped Public Lands in Montana, North Dakota, and South Dakota

AGENCY: Bureau of Land Management, Interior.

ACTION: Proposed supplementary rules.

SUMMARY: The Bureau of Land Management (BLM) is proposing supplementary rules regarding time limits for camping and the storage of property on undeveloped public lands managed by the BLM in Montana, North Dakota, and South Dakota. These proposed supplementary rules consolidate existing rules for camping on undeveloped BLM-administered public lands throughout Montana, North Dakota, and South Dakota. These proposed supplementary rules will supersede prior published rules.

DATES: You should submit your comments by September 14, 2009. In developing final rules, BLM will not accept written comments postmarked or received in person or by electronic mail after this deadline.

ADDRESSES: You may mail or deliver comments on the proposed supplementary rules to Christina Miller, Outdoor Recreation Planner, Bureau of Land Management, Montana State Office, 5001 Southgate Drive, Billings, Montana 59101-4669. You may also comment by e-mail at the following address: MT_Billings_SO@blm.gov.

FOR FURTHER INFORMATION CONTACT: Christina Miller, Outdoor Recreation Planner, BLM Montana State Office, 5001 Southgate Drive, Billings, Montana 59101-4669, (406) 896-5038.

SUPPLEMENTARY INFORMATION:

I. Public Comment Procedures

Written comments on the proposed supplementary rules should be specific, be confined to issues pertinent to the proposed supplementary rules, and explain the reason for any recommended change. Where possible, comments should reference the specific section or paragraph of the proposal which the comment is addressing. The BLM is not obligated to consider or include in the administrative record for the supplemental rule, comments that the BLM receives after the close of the comment period (see DATES), unless they are postmarked or electronically dated before the deadline, or comments delivered to an address other than the address listed above (See ADDRESSES).

The BLM will make your comments, including your name and address, available for public review at the Montana State Office address listed in “ADDRESSES” above during regular business hours (8 a.m. to 4:30 p.m., Monday through Friday, except Federal holidays). Before including your address, phone number, e-mail address, or other personal identifying information in your comment, you should be aware that your entire comment—including your personal identifying information—may be made publicly available at any time. While you can ask us in your comment to withhold your personal identifying information from public review, we cannot guarantee that we will be able to do so.

Clarity of the Proposed Supplementary Rules

Executive Order 12866 requires each agency to write regulations that are simple and easy to understand. We invite your comments on how to make these proposed supplementary rules easier to understand, including answers to questions such as the following:

(1) Are the requirements in the proposed supplementary rules clearly stated?

(2) Do the proposed supplementary rules contain technical language or jargon that interferes with its clarity?

(3) Does the format of the proposed supplementary rules (grouping and order of sections, use of headings, paragraphing, etc.) aid or reduce its clarity?

(4) Would the proposed supplementary rules be easier to understand if they were divided into more (but shorter) sections?

(5) Is the description of the proposed supplementary rules in the “SUPPLEMENTARY INFORMATION” section of this preamble helpful in understanding these proposed supplementary rules? How could this description be more helpful in making the proposed supplementary rules easier to understand?

Please send any comments you have on the clarity of the proposed supplementary rules to the address specified in the “ADDRESSES” section.

II. Discussion of the Proposed Supplementary Rules

These proposed supplementary rules would apply to undeveloped public lands administered by the BLM within the States of Montana, North Dakota, and South Dakota. They would supersede all existing camping stay limits and occupancy on undeveloped public land administered by the BLM in Montana, North Dakota, and South Dakota published previously. These proposed supplementary rules would allow camping at a particular location for 16 days, either cumulatively or consecutively, during any 30-day interval. Any camp relocation within that 30-day period would not be allowed within a one-half mile radius from the original site. These supplemental rules are consistent with existing recreation sections and management for camping in resource management plans in each district office. These rules are not contradictory to campsite selections stated in the Montana, North Dakota and South Dakota June 2003 Record of Decision and Environmental Impact Statement for Off-Highway Vehicles. This notice does not affect more restrictive camping limits that may already be in place for certain areas. Future exceptions to the 16-day camping limit for any field office will be considered and analyzed through their respective land use plan revisions.

These proposed supplementary rules would not apply to locations that contain structures or capital improvements (such as boat launch sites, picnic areas, and interpretive centers) and that are used primarily by the public for recreational purposes. Examples of such locations include developed campgrounds, designated recreation areas, and special recreation management areas. The BLM regulates the use and occupancy at such developed locations in accordance with 43 CFR 8365.1-2. In addition, site-specific rules for these locations remain in effect and are posted at each site.

These proposed supplementary rules would supersede rules previously published at 72 FR 19958 (April 20, 2007). The rules in the 2007 notice required camps to be moved a minimum of 5 miles every 14 days. These proposed supplementary rules would allow camping at a particular location for 16 days, either cumulatively or consecutively, during any 30-day interval. The placing or leaving of unattended motor vehicles, trailers, or other personal property for the purpose of reserving a camping site is considered camping for the purpose of these supplementary rules. Thus, overnight occupation is not necessarily the only criterion for determining whether or not the 16-day limit has been met.

Once campers have met the 16-day limit, they would be prohibited from camping at the original location for at least 30 days, and any camp relocation within that 30-day period would not be allowed within a one-half mile radius from the original site. These changes are being proposed to better allow the public to remain in the general area in which they wish to recreate while still achieving the BLM's goal of protecting public lands and natural resources by prohibiting long-term camps in a single location.

III. Procedural Matters

Executive Order 12866, Regulatory Planning and Review

These proposed supplementary rules are not a significant regulatory action and are not subject to review by Office of Management and Budget under E.O. 12866. These proposed supplementary rules will not have an effect of $100 million or more on the economy. These proposed supplementary rules will not adversely affect in a material way the economy, productivity, competition, jobs, the environment, public health or safety, or State, local, or tribal governments or communities. These proposed supplementary rules will not create a serious inconsistency or otherwise interfere with an action taken or planned by another agency. These proposed supplementary rules do not alter the budgetary effects of entitlements, grants, user fees, or loan programs or the right or obligations of their recipients; nor do these proposed supplementary rules raise novel legal or policy issues. They establish limits for public recreational use of undeveloped public lands in Montana, North Dakota, and South Dakota to protect public lands and natural resources.

National Environmental Policy Act

The BLM prepared an environmental impact statement (EIS) as part of the development of the resource management plan (RMP) for each district office. During that National Environmental Policy Act (NEPA) process, many proposed decisions were fully analyzed, including the substance of these supplementary rules. The pertinent analysis can be found in Chapter 4, Alternatives, of the RMP for each district office. These supplementary rules provide for enforcement of plan decisions.

Regulatory Flexibility Act

Congress enacted the Regulatory Flexibility Act (RFA) of 1980, as amended, 5 U.S.C. 601-612, to ensure that Government regulations do not unnecessarily or disproportionately burden small entities. The RFA requires a regulatory flexibility analysis if a rule would have a significant economic impact, either detrimental or beneficial, on a substantial number of small entities. These supplementary rules do not pertain specifically to commercial or governmental entities of any size, but to public recreational use of specific public lands. Therefore, the BLM has determined under the RFA that these proposed supplementary rules would not have a significant economic impact on a substantial number of small entities.

Small Business Regulatory Enforcement Fairness Act

These proposed supplementary rules do not constitute a “major rule” as defined at 5 U.S.C. 804(2). Again, these proposed supplementary rules merely establish limits for recreational use of certain public lands. These proposed supplementary rules have no effect on business—commercial or industrial—use of the public lands.

Unfunded Mandates Reform Act

These proposed supplementary rules do not impose an unfunded mandate on State, local or tribal governments, or the private sector of more than $100 million per year; nor do these proposed supplementary rules have a significant or unique effect on State, local, or tribal governments, or the private sector. These proposed supplementary rules do not require anything of State, local, or tribal governments. Therefore, the BLM is not required to prepare a statement containing the information required by the Unfunded Mandates Reform Act (2 U.S.C. 1531 et seq.).

Executive Order 12630, Governmental Actions and Interference With Constitutionally Protected Property Rights (Takings)

These proposed supplementary rules do not represent a government action capable of interfering with constitutionally protected property rights. These proposed supplementary rules do not address property rights in any form and do not cause the impairment of anybody's property rights. Therefore, the Department of the Interior has determined that these proposed supplementary rules would not cause a taking of private property or require further discussion of takings implications under this Executive Order.

Executive Order 13132, Federalism

These proposed supplementary rules do not have a substantial direct effect on the States, on the relationship between the national government and the States, or on the distribution of power and responsibilities among the various levels of government. These supplementary rules will have little or no effect on State or local government. Therefore, in accordance with E.O. 13132, the BLM has determined that these proposed supplementary rules do not have sufficient Federalism implications to warrant preparation of a Federalism Assessment.

Executive Order 12988, Civil Justice Reform

Under E.O. 12988, the BLM has determined that these proposed supplementary rules would not unduly burden the judicial system and that they meet the requirements of sections 3(a) and 3(b)(2) of the Executive Order.

Paperwork Reduction Act

These proposed supplementary rules do not directly provide for any information collection that the Office of Management and Budget must approve under the Paperwork Reduction Act, 44 U.S.C. 3501 et seq. Any information collection that may result from Federal criminal investigations or prosecutions conducted in enforcing these proposed supplementary rules is exempt from the provisions of the Paperwork Reduction Act of 1995, 44 U.S.C. 3518(c)(1).

Executive Order 13175, Consultation and Coordination with Indian Tribal Governments In accordance with Executive Order 13175, the BLM has found that these supplementary rules do not include policies that have tribal implications. These supplementary rules provide for enforcement of decisions adopted in the Record of decision and thoroughly analyzed in the EIS prepared for the resource management plans (RMP) of each district office. During preparation of the EIS, government-to government consultation was conducted with the tribal governments with interests in the affected area. None of these tribal governments expressed concerns regarding the decisions these supplementary rules are designed to enforce. Therefore, in accordance with Executive Order 13175, the BLM has found that these supplementary rules do not include polices that have tribal implications.

Supplementary Rules for Undeveloped BLM-Administered Lands in the States of Montana, North Dakota, and South Dakota

Definitions

Camping: The erecting of a tent or shelter of natural or synthetic material, preparing a sleeping bag or other bedding material for use, parking of a motor vehicle, motor home, or trailer, or mooring of a vessel for the apparent purpose of overnight occupancy. The placing or leaving of unattended motor vehicles, trailers, or other personal property for the purpose of reserving a camping site is considered camping for the purpose of these supplementary rules.

You must follow these rules:

These supplementary rules apply, except as specifically exempted, to all camping on undeveloped public lands managed by the Montana State Office of the Bureau of Land Management within the states of Montana, South Dakota, and North Dakota. These supplementary rules are in effect on a year-round basis and will remain in effect until modified by the BLM.

1. You must not camp longer than 16 consecutive days at any one location.

2. No person or group may camp within a single location on public lands more than 16 days within any period of 30 consecutive days. The 16-day limit may be reached either by compiling individual visits during a 30-day interval, or by occupying a location continuously for 16 days during a 30-day interval. A 16-day interval begins when a person initially camps or leaves vehicles or property at a site on public lands.

3. After 16 days of camping in a single location, you must not camp at that location until at least 30 days have passed, and any camp relocation within that 30-day period shall not be within a one-half mile radius from the original site. Under special circumstances and upon request, the BLM may issue a written permit for extension of the 16-day limit.

4. You must not leave any personal property or refuse after vacating the campsite. This includes any property left for the purposes of use by another camper or occupant.

5. The time such property is left unattended at a site will be counted towards the 16-day camping limit. (Unattended property is still subject to the time limits found in 43 CFR 8365.1-2(b)).

6. The following persons are exempt from these supplementary rules: Any Federal, State, or local officer or employee in the scope of their duties; members of any organized rescue or fire-fighting force in performance of an official duty; and any person whose activities are authorized in writing by the Bureau of Land Management.

Penalties

The rules we are proposing here provide for penalties that may depend on the location where a violation occurs. The primary statutory authority for proposing these supplementary rules is the Federal Land Policy and Management Act (FLPMA). Section 310 of FLPMA (43 U.S.C. 1740) authorizes us to issue rules and regulations to carry out the purposes of FLPMA and other laws applicable to the public lands. Under section 303(a) of the Federal Land Policy and Management Act, 43 U.S.C. 1733(a), and 43 CFR 8360.0-7, any person who violates any of these supplementary rules on any public lands may be tried before a United States Magistrate and fined no more than $1,000 or imprisoned for no more than 12 months, or both. Also, such violations may be subject to the enhanced fines provided for by 18 U.S.C. 3571. Under the Taylor Grazing Act, any person who violates any of these supplementary rules on public lands within grazing districts (see 43 U.S.C. 315a), or on public lands subject to a grazing lease (see 43 U.S.C. 315m), may be tried before a United States Magistrate and fined no more than $500.00. Such violations may also be subject to the enhanced fines provided for by 18 U.S.C. 3571.

Any person who violates any of these supplementary rules on public lands managed in accordance with the Sikes Act may be tried before a United States Magistrate and fined no more than $500 or imprisoned for no more than 6 months, or both. Such violations may also be subject to the enhanced fines provided for by 18 U.S.C. 3571.

In accordance with 43 CFR 8365.1-7, State or local officials may also impose penalties for violations of Montana, North Dakota, or South Dakota law.

Gene R. Terland,
Montana/Dakotas State Director, Bureau of Land Management.

[FR Doc. E9-19412 Filed 8-12-09; 8:45 am]

BILLING CODE 4310-DN-P